DEPARTMENT OF HEALTH AND HUMAN SERVICES

Health Resources and Services Administration

Supplement for Zika Response, a Single-Award Deviation From Competition Requirements for the National Center for Medical Home Implementation Cooperative Agreement

AGENCY: Health Resources and Services Administration (HRSA), Department of Health and Human Services (HHS).

ACTION: Notice.

SUMMARY: HRSA announces the award of a supplement in the amount of $350,000 for the National Center for Medical Home Implementation (NCMHI) cooperative agreement. The purpose of the NCMHI cooperative agreement is to support a national resource and assistance effort to implement and spread the medical home model to all children and youth, particularly children with special health care needs (CSHCN), children who are vulnerable and/or medically underserved, and pediatric populations served by state public health programs, the Maternal and Child Health Bureau (MCHB), and HRSA. The supplement will permit the American Academy of Pediatrics (AAP), the cooperative agreement awardee, during the budget period of July 1, 2016-June 30, 2017, to enhance their capacity to provide technical assistance and health professional education to increase the clinical expertise of pediatric health care professionals, including safety net providers, to more effectively serve as the medical home and provide family-centered, comprehensive, coordinated, and culturally-effective care for Zika-affected children and their families.

FOR FURTHER INFORMATION CONTACT: Marie Y. Mann, MD, MPH, FAAP, Division of Services for Children with Special Health Needs, Maternal and Child Health Bureau, Health Resources and Services Administration, 5600 Fishers Lane, Room 18W61, Rockville, Maryland 20857; MMann@hrsa.gov.

SUPPLEMENTARY INFORMATION:

Intended Recipient of the Award: The American Academy of Pediatrics.

Amount of Non-Competitive Awards: $350,000.

Period of Supplemental Funding: 7/1/2016-6/30/2017.

CFDA Number: 93.110.

Authority: Social Security Act, Title V, sections 501(a)(1)(D) and 501(a)(2), (42 U.S.C. 701(a)(1)(D) and 701(a)(2))

Justification: Zika virus infection during pregnancy dramatically increases the risk of birth defects. Microcephaly has been linked to Zika virus infection during pregnancy, and the extent of other possible birth defects is unclear. As of August 25, 2016, there are 624 pregnant women in the 50 states and the District of Columbia reported to have the Zika virus infection. In Puerto Rico, over 600 pregnant women have been reported to have the Zika virus infection as a result of exposure to the Zika virus during pregnancy. However, pediatric specialty expertise to care for their babies is limited. Currently, no network exists to link providers caring for these patients with those who have relevant expertise or experience in managing infants and children of women exposed to Zika virus during pregnancy. Discussions of developmental screening, clinical management, and family support approaches will help clinicians serving this population, thereby increasing access to well-coordinated, family-centered care and management in a medical home for children and families impacted by Zika-related complications.

The purpose of the NCMHI cooperative agreement is to support a national resource and assistance effort to implement and spread the medical home model to all children and youth, particularly CSHCN, children who are vulnerable and/or medically underserved, and pediatric populations served by state public health programs, MCHB, and HRSA. In 2013, following objective review of its competitive application, HRSA awarded the NCMHI cooperative agreement to AAP, a nonprofit, tax-exempt organization under Internal Revenue Code 501(c)(3).

This supplement to the NCMHI cooperative agreement provides technical assistance and education, including tele-mentoring, to clinicians providing care for children who are or may be impacted by Zika at HRSA-supported health centers and elsewhere within the United States (including U.S. territories and jurisdictions). Using the tele-mentoring technology, clinicians will team with specialists elsewhere to provide clinicians with the tools and resources to improve care delivery within the medical home, thereby increasing the sustainability of the medical home model for children affected by Zika. Though available to all clinicians, technical assistance and education will be directed primarily toward pediatric primary care physicians in areas at high-risk for Zika and toward clinicians operating in health centers supported by HRSA's Bureau of Primary Health Care. These activities will provide critical knowledge to health care professionals, including safety net providers, to more effectively serve as the medical home for children affected by Zika and their families.

Grantee/organization name | Grant No. | State | FY 2016 authorized funding level | FY 2016 estimated funding for this supplement
The American Academy of Pediatrics | U43MC09134 | IL | $1,300,031 | $350,000

Dated: September 19, 2016.
James Macrae,
Acting Administrator.

[FR Doc. 2016-23096 Filed 9-23-16; 8:45 am]

BILLING CODE 4165-15-P